DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before September 11, 2023.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on July 28, 2023.
Donald P. Burger,
Chief, General Approvals and Permits Branch.

Application No. | Applicant | Regulation(s) affected | Nature of the special permits thereof
SPECIAL PERMITS DATA—Granted
15721-M | Probe Technology Services, Inc | 173.304(a) | To modify the special permit to authorize an additional packaging.
15848-M | Ambri Inc | 173.222(c)(1) | To modify the special permit to update the design terminology.
16279-M | Stericycle, Inc | 173.196(a) | To modify the special permit to authorize the transportation in commerce of the Marburg virus.
20493-M | Tesla, Inc | 172.101(j) | To modify the special permit to authorize additional lithium ion batteries and additional cell type.
21235-M | United States Dept. of Energy | 173.413, 173.416 | To modify the special permit to authorize return shipments and higher payload containers.
21360-M | ABG Bag, Inc | 173.12(b)(2)(ii)(C), 178.707(d) | To modify the special permit to authorize Division 5.2 hazardous materials.
21490-N | Myers Industries, Inc | 173.28(b)(2), 178.509(b)(7), 178.601(h) | To authorize the manufacture, mark, sale, and use of jerricans manufactured to a specification not meeting all the requirements for UN 3H1 specification jerricans.
21517-N | Bayerische Motoren Werke Aktiengesellschaft | 172.101(j) | To authorize the transportation in commerce of lithium ion batteries exceeding 35 kg net weight aboard cargo-only aircraft.
21518-N | Bedrock Ocean Exploration, Pbc | 172.101(j) | To authorize the transportation in commerce of prototype lithium batteries exceeding 35 kg via cargo-only aircraft.
21528-N | Honeywell Intellectual Properties Inc | 173.302a(a)(1) | To authorize the manufacture, mark, sale, and use of non-DOT specification welded cylinder that is comparable to DOT specification 3HT cylinder for the transportation in commerce of the hazardous materials authorized by this special permit.
21536-N | WAE Technologies Limited | 172.101(j), 173.185(b)(6) | To authorize the transportation in commerce of lithium ion batteries exceeding 35 kg net weight aboard cargo-only aircraft.
21563-N | LG Energy Solution, Ltd | 172.102(a), 172.102(b), 172.102(c) | To authorize the transportation in commerce of lithium ion batteries exceeding 35 kg net weight aboard cargo-only aircraft.
SPECIAL PERMITS DATA—Denied
21553-N | Pacific Scientific Energetic Materials Company (california) Llc | 173.21(b), 173.51(a), 173.54, 173.54(a), 173.56(b) | To authorize the one-way transportation in commerce of unapproved explosives originating from Pacific Scientific Energetic Materials Company LLC, and transported to Clean Harbors Waste Facility in Colfax, LA for final disposal by motor vehicle transport only.
SPECIAL PERMITS DATA—Withdrawn
21569-N | National Air Cargo Group, Inc | 172.204(c)(3), 172.101(j), 173.27(b)(2), 173.27(b)(3), 175.30(a)(1) | To authorize the transportation in commerce of certain Class 1 and Division 2.3 materials that are forbidden for transport via cargo-only aircraft by cargo-only aircraft.
21576-N | Neponset Valley Engineering Company, Inc | 173.301(a)(6) | To authorize the transportation in commerce of one DOT 4BA-240 cylinder that is suspected of being overdue for periodic requalification prior to being filled with a hazardous material.
21577-N | Factorial Inc | 173.185 | To authorize the shipment and receival of damaged, defective or recalled lithium cells/batteries under UN3090.
21583-N | Sidney Lee Welding Supply, Inc | 180.209(b)(1) | To authorize a 10-year requalification interval for certain DOT Specification 3A and 3AA cylinders used for the transportation in commerce of certain Division 2.1 and Division 2.2 gases in bundles.

[FR Doc. 2023-17096 Filed 8-9-23; 8:45 am]

BILLING CODE 4910-60-P